DEPARTMENT OF ENERGY

Federal Energy Regulatory Commission

Combined Notice of Filings #1

Take notice that the Commission received the following electric rate filings:

Docket Numbers: ER12-1933-009; ER12-1934-008.

Applicants: Interstate Power and Light Company, Wisconsin Power and Light Company.

Description: Supplement to June 29, 2018 Updated Triennial Market Power analysis for the Central region of Interstate Power and Light Company, et. al.

Filed Date: 11/20/18.

Accession Number: 20181120-5053.

Comments Due: 5 p.m. ET 12/11/18.

Docket Numbers: ER19-273-001.

Applicants: Alabama Power Company.

Description: Tariff Amendment: Errata to Twiggs County Solar (Twiggs Solar) LGIA Amendment Filing to be effective 10/26/2018.

Filed Date: 11/20/18.

Accession Number: 20181120-5089.

Comments Due: 5 p.m. ET 12/11/18.

Docket Numbers: ER19-367-000.

Applicants: Pixelle Specialty Solutions LLC.

Description: Baseline eTariff Filing: MBRA Tariff to be effective 11/20/2018.

Filed Date: 11/19/18.

Accession Number: 20181119-5207.

Comments Due: 5 p.m. ET 12/10/18.

Docket Numbers: ER19-368-000.

Applicants: Yasmin Partners LLC.

Description: Notice of Cancellation of Market-Based Rate Tariff of Yasmin Partners LLC.

Filed Date: 11/19/18.

Accession Number: 20181119-5216.

Comments Due: 5 p.m. ET 12/10/18.

Docket Numbers: ER19-369-000.

Applicants: Midcontinent Independent System Operator, Inc., ALLETE, Inc.

Description: § 205(d) Rate Filing: 2018-11-20_SA 3213 MP-GRE ICA (Stinson) to be effective 11/21/2018.

Filed Date: 11/20/18.

Accession Number: 20181120-5030.

Comments Due: 5 p.m. ET 12/11/18.

Docket Numbers: ER19-370-000.

Applicants: PJM Interconnection, L.L.C.

Description: § 205(d) Rate Filing: Original ISA SA No. 5235; Queue No. AB2-068 to be effective 10/23/2018.

Filed Date: 11/20/18.

Accession Number: 20181120-5081.

Comments Due: 5 p.m. ET 12/11/18.

Docket Numbers: ER19-371-000.

Applicants: Southwest Power Pool, Inc.

Description: § 205(d) Rate Filing: 1884R8 Westar Energy, Inc. NITSA NOA to be effective 11/1/2018.

Filed Date: 11/20/18.

Accession Number: 20181120-5084.

Comments Due: 5 p.m. ET 12/11/18.

Docket Numbers: ER19-372-000.

Applicants: Southwest Power Pool, Inc.

Description: § 205(d) Rate Filing: 1885R8 Westar Energy, Inc. NITSA NOA to be effective 11/1/2018.

Filed Date: 11/20/18.

Accession Number: 20181120-5087.

Comments Due: 5 p.m. ET 12/11/18.

Docket Numbers: ER19-373-000.

Applicants: Paulding Wind Farm II LLC.

Description: Baseline eTariff Filing: Reactive Power Compensation Filing to be effective 1/19/2019.

Filed Date: 11/20/18.

Accession Number: 20181120-5094.

Comments Due: 5 p.m. ET 12/11/18.

Docket Numbers: ER19-374-000.

Applicants: Southern California Edison Company.

Description: § 205(d) Rate Filing: Revised Formula Rate TO Tariff—Retail Rate Revisions to be effective 1/21/2019.

Filed Date: 11/20/18.

Accession Number: 20181120-5099.

Comments Due: 5 p.m. ET 12/11/18.

Docket Numbers: ER19-375-000.

Applicants: Duke Energy Florida, LLC.

Description: § 205(d) Rate Filing: DEF-Florida Power & Light (RS-81) Amendment to be effective 11/30/2018.

Filed Date: 11/20/18.

Accession Number: 20181120-5117.

Comments Due: 5 p.m. ET 12/11/18.

Docket Numbers: ER19-376-000.

Applicants: PJM Interconnection, L.L.C.

Description: § 205(d) Rate Filing: First Revised ISA, SA No. 4592; Queue No. AC1-182 to be effective 10/23/2018.

Filed Date: 11/20/18.

Accession Number: 20181120-5118.

Comments Due: 5 p.m. ET 12/11/18.

Docket Numbers: ER19-377-000.

Applicants: Arizona Public Service Company.

Description: § 205(d) Rate Filing: Service Agreement No. 216—Amendment No. 5 to be effective 11/1/2018.

Filed Date: 11/20/18.

Accession Number: 20181120-5125.

Comments Due: 5 p.m. ET 12/11/18.

Docket Numbers: ER19-378-000.

Applicants: Montour, LLC.

Description: § 205(d) Rate Filing: Reactive Service Rate Schedule Filing to be effective 2/17/2019.

Filed Date: 11/20/18.

Accession Number: 20181120-5126.

Comments Due: 5 p.m. ET 12/11/18.

Docket Numbers: ER19-379-000.

Applicants: PJM Interconnection, L.L.C.

Description: § 205(d) Rate Filing: Original WMPA SA No. 5244; Queue No. AD1-085 to be effective 11/14/2018.

Filed Date: 11/20/18.

Accession Number: 20181120-5138.

Comments Due: 5 p.m. ET 12/11/18.

Docket Numbers: ER19-380-000.

Applicants: Arizona Public Service Company.

Description: § 205(d) Rate Filing: Service Agreement No. 362 NITS with City of Williams to be effective 11/1/2018.

Filed Date: 11/20/18.

Accession Number: 20181120-5155.

Comments Due: 5 p.m. ET 12/11/18.

Take notice that the Commission received the following electric reliability filings:

Docket Numbers: RR19-2-000.

Applicants: North American Electric Reliability Corporation.

Description: Petition of the North American Electric Reliability Corporation for Approval of Proposed Revisions to the Standard Processes Manual, Appendix 3A to the NERC Rules of Procedure.

Filed Date: 11/19/18.

Accession Number: 20181119-5222.

Comments Due: 5 p.m. ET 12/10/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 20, 2018.
Nathaniel J. Davis, Sr.,
Deputy Secretary.

[FR Doc. 2018-25781 Filed 11-26-18; 8:45 am]

BILLING CODE 6717-01-P